INTERNATIONAL TRADE COMMISSION

[Investigation Nos. 701-TA-609 and 731-TA-1421 (Final)]

Steel Trailer Wheels From China; Revised Schedule for the Subject Investigations

AGENCY: United States International Trade Commission.

ACTION: Notice.

DATES: July 16, 2019.

FOR FURTHER INFORMATION CONTACT: Jordan Harriman (202-205-2610), Office of Investigations, U.S. International Trade Commission, 500 E Street SW, Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its internet server (https://www.usitc.gov). The public record for this investigation may be viewed on the Commission's electronic docket (EDIS) at https://edis.usitc.gov.

SUPPLEMENTARY INFORMATION: On April 15, 2019, the Commission established a schedule for the conduct of the final phase of the subject investigations (84 FR 18862 May 2, 2019). The Commission is revising its schedule for these investigations.

The Commission's revised dates in the schedule are as follows: the Commission will make its final release of information on July 26, 2019; and final party comments are due on July 30, 2019.

For further information concerning this proceeding, see the Commission's notice cited above and the Commission's Rules of Practice and Procedure, part 201, subparts A through E (19 CFR part 201), and part 207, subparts A and C (19 CFR part 207).

Authority: This investigation is being conducted under authority of title VII of the Tariff Act of 1930; this notice is published pursuant to section 207.21 of the Commission's rules.

By order of the Commission.
Issued: July 18, 2019.
Lisa Barton,
Secretary to the Commission.

[FR Doc. 2019-15631 Filed 7-22-19; 8:45 am]

BILLING CODE 7020-02-P